DEPARTMENT OF HOMELAND SECURITY

Coast Guard

33 CFR Part 117

[Docket No. USCG-2011-0959]

Drawbridge Operation Regulations; Gulf Intracoastal Waterway (Algiers Alternate Route), Belle Chasse, LA

AGENCY: Coast Guard, DHS.

ACTION: Notice of temporary deviation from regulations; request for comments.

SUMMARY: The Commander, Eighth Coast Guard District, has issued a temporary deviation from the regulation governing the operation of the SR 23 bridge across the Gulf Intracoastal Waterway (Algiers Alternate Route), mile 3.8, at Belle Chasse, Plaquemines Parish, Louisiana. This deviation will test a change to the drawbridge operation schedule to determine whether a permanent change to the schedule is needed. This test deviation will allow the bridge to open only on the hour during the day from Monday through Friday, while maintaining morning and afternoon maritime restrictions.

DATES: This deviation is effective from December 15, 2011 through January 17, 2012.

Comments and related material must be received by the Coast Guard on or before January 30, 2012.

ADDRESSES: You may submit comments identified by docket number USCG-2011-0959 using any one of the following methods:

(1) Federal eRulemaking Portal: http://www.regulations.gov.

(2) Fax: (202)-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is (202)-366-9329.

To avoid duplication, please use only one of these four methods. See the “Public Participation and Request for Comments” portion of the SUPPLEMENTARY INFORMATION section below for instructions on submitting comments.

FOR FURTHER INFORMATION CONTACT: If you have questions on this proposed rule, call or email Donna Gagliano, Bridge Administration Branch, Eighth Coast Guard District, telephone (504) 671-2128, email Donna.Gagliano@uscg.mil. If you have questions on viewing or submitting material to the docket, call Renee V. Wright, Program Manager, Docket Operations, telephone (202)-366-9826.

SUPPLEMENTARY INFORMATION:

Public Participation and Request for Comments

We encourage you to participate in this rulemaking by submitting comments and related materials. All comments received will be posted, without change, to http://www.regulations.gov and will include any personal information you have provided.

Submitting Comments

If you submit a comment, please include the docket number for this rulemaking (USCG-2011-0959), indicate the specific section of this document to which each comment applies, and provide a reason for each suggestion or recommendation. You may submit your comments and material online (http://www.regulations.gov), or by fax, mail or hand delivery, but please use only one of these means. If you submit a comment online via http://www.regulations.gov, it will be considered as having been received by the Coast Guard when it is received at the Docket Management Facility. We recommend that you include your name and a mailing address, an email address, or a phone number in the body of your document so that we can contact you if we have questions regarding your submission.

To submit your comment online, go to http://www.regulations.gov, click on the “submit a comment” box, which will then become highlighted in blue. In the “Keyword” box insert “USCG-2011-0959,” click “Search,” and then click on the balloon shape in the “Actions” column. If you submit your comments by mail or hand delivery, submit them in an unbound format, no larger than 8½ by 11 inches, suitable for copying and electronic filing. If you submit them by mail and would like to know that they reached the Facility, please enclose a stamped, self-addressed postcard or envelope. We will consider all comments and material received during the comment period and may change the rule based on your comments.

Viewing Comments and Documents

To view comments, as well as documents mentioned in this preamble as being available in the docket, go to http://www.regulations.gov, click on the “read comments” box, which will then become highlighted in blue. In the “Keyword” box insert “USCG-2011-0959” and click “Search.” Click the “Open Docket Folder” in the “Actions” column. You may also visit the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Meeting

We do not now plan to hold a public meeting. But you may submit a request for one using one of the four methods specified under ADDRESSES. Please explain why a public meeting would be beneficial. If we determine that one would aid this rulemaking, we will hold one at a time and place announced by a later notice in the Federal Register.

Basis and Purpose

The Coast Guard, at the request of the State of Louisiana, proposes to change the existing operating schedule for the SR 23 vertical lift bridge across the Gulf Intracoastal Waterway (Algiers Alternate Route), mile 3.8, at Belle Chasse, Plaquemines Parish, Louisiana. Due to an increase in vehicle traffic, State of Louisiana requested a change to the operation schedule.

Presently, under 33 CFR 117.451(b), states: The draw of the SR 23 Bridge, Algiers Alternate Route, mile 3.8 at Belle Chasse, shall open on signal; except that, from 6 a.m. to 8:30 a.m. and from 3:30 p.m. to 5:30 p.m. Monday through Friday, except Federal holidays, the draw need not be opened for the passage of vessels.

The test deviation would allow the bridge to open for the passage of vessels; except that from 6:30 a.m. until 8 p.m. Monday through Friday, the bridge need only open on the hour for the passage of vessels. The bridge need not open for the passage of vessels at 7 a.m., 8 a.m., 4 p.m. and 5 p.m. Monday through Friday. This proposal will allow the bridge to remain closed from 6:30 a.m. until 9 a.m. and from after the 3 p.m. opening until 6 p.m. Monday through Friday to facilitate the movement of vehicular traffic. Then from 8 p.m. until 6:30 a.m. Monday through Friday and at all times on weekend the bridge will open on signal.

We are testing these potential operating regulations adjustments to discover any outcome in vehicular traffic and water navigation as a result of the time adjustments.

The proposed change would allow for a set schedule of openings for vessels while minimally disrupting vehicular traffic during the morning and afternoon schedule. Also, the proposed schedule would allow additional time to clear vehicular traffic and minimize the delays caused by the openings during the heavy commute times. As a result very few vessels will be impacted, those vessels should be able to modify their transit accordingly as there is an alternate route. The vertical clearance of the bridge is 40 feet above mean high water in the closed-to-navigation position, so only vessels requiring ≤ 40 feet may transit the waterway. All vessels waiting during the closure will be allowed to pass during scheduled openings.

This deviation is effective from December 15, 2011 until January 17, 2012.

Coordination will be through Public Notice and Local Notice to Mariners upon date of publication in the Federal Register.

In accordance with 33 CFR 117.35(e), the drawbridge must return to its regular operating schedule immediately at the end of the designated time period.

This deviation from the operating regulations is authorized under 33 CFR 117.35.

Dated: November 3, 2011.
David M. Frank,
Bridge Administrator.

[FR Doc. 2011-30636 Filed 11-29-11; 8:45 am]

BILLING CODE 9110-04-P